NATIONAL FOUNDATION ON THE ARTS AND THE HUMANITIES

National Endowment for the Humanities

Privacy Act of 1974; System of Records Notice

AGENCY: National Endowment for the Humanities, National Foundation on the Arts and the Humanities.

ACTION: Notice of republication of systems of records and new routine uses.

SUMMARY: The National Endowment for the Humanities (“NEH”) is publishing a notice of its systems of records with descriptions of the systems and the ways in which they are maintained, as required by the Privacy Act of 1974.

NEH's mission has not changed since its inception in 1965: It extends federal financial assistance to support humanities-related projects, conducted by both individuals and organizations. In that endeavor, it employs staff and special government employees, and engages academic peer reviewers, to evaluate grant applications. NEH created several systems of records to maintain records concerning the individuals with whom it regularly interacts: e.g., grant applicants, employees, peer reviewers, contractors and vendors. As with its mission, the categories of individuals with whom NEH interacts and the systems it created to host records regarding such individuals have not changed significantly since NEH's inception.

This notice reflects administrative and operational changes that have been made at NEH since it last published notice of its systems of records, such as agency restructuring and the increased use of electronic technology. This notice will enable individuals who wish to access information maintained in NEH systems of records to make accurate and specific requests for such information. This notice does not reflect, nor has NEH undertaken, significant changes to the numbers or categories of individuals about whom it maintains records in its systems of records, the categories of records maintained in these systems, the purpose for which it maintains these systems, or the availability of information contained in these systems.

This notice also reflects certain new routine uses requested by the Office of Management and Budget and the Office of Government Information Services of the National Archives and Records Administration, as well as routine uses that are standard within other federal agencies.

DATES: With the exception of new routine uses, this System of Records Notice is effective upon publication in the Federal Register. Any new routine use published in this System of Records Notice shall be effective 30 days from the date of publication, pursuant to 5 U.S.C. 552a(e)(11).

ADDRESSES: Adam M. Kress, Senior Agency Official for Privacy, 400 7th Street SW., Room 4060, Washington, DC 20506; (202) 606-8323; akress@neh.gov.

FOR FURTHER INFORMATION CONTACT: Adam M. Kress, (202) 606-8323; akress@neh.gov.

SUPPLEMENTARY INFORMATION: In accordance with 5 U.S.C. 552a(e)(4), NEH is today republishing a notice of the existence and character of its systems of records in order to make available in one place in the Federal Register the most up-to-date information regarding these systems. This republication reflects administrative changes, such as agency restructuring and the increased use of electronic technology that NEH has implemented since it last published notice of its systems of records.

Table of Contents

This document gives notice that the following NEH systems of records are in effect:

NEH-1 Grants and Cooperative Agreements: Electronic Grant Management System

NEH-2 Financial Management System

NEH-3 Requisition System

NEH-4 Employee Payroll and Leave and Attendance Records

NEH-5 Office of the Inspector General Investigative Files

NEH-6 Humanities Magazine Contact Database

NEH-1

SYSTEM NAME:

Grants and Cooperative Agreements: Electronic Grant Management System (“eGMS”).

SYSTEM CLASSIFICATION:

Unclassified.

SYSTEM LOCATION:

Authorized NEH staff may access NEH's electronic grant management system via an online web portal.

CATEGORIES OF INDIVIDUALS COVERED BY THE SYSTEM:

(1) Individuals who have applied to NEH for financial assistance; (2) in the case of organizations who have applied to NEH for financial assistance, the organization's designated grant administrator and/or project director, as well as other individuals affiliated with the applicant; (3) individuals that have applied to, or received financial assistance, from NEH grantees, including fellows and subgrantees; (4) individuals who have attended NEH-funded seminars; (5) individuals who have applied to or have served as application review panelists; and (6) individuals who serve or have served as members of the National Council on the Humanities.

CATEGORIES OF RECORDS IN THE SYSTEM:

Names of individuals, Social Security numbers (only for those grant applicants and panelists receiving payment from NEH), eGMS personal identification number, U.S. citizenship status, race and ethnicity (no longer actively collected), email address, telephone and fax number, home and work address, current institutional affiliations, categorical information on disciplines and expertise, and NEH subscriptions.

In addition to the above records, eGMS contains grant applications, including résumés, samples of work and proposed budgets, award notification letters, notices of agency action, grantee performance reports, panelist and staff evaluations and write-ups, funding decisions, written communications between NEH and grantees and other background materials received from grantees.

eGMS also contains information pertaining to NEH peer review panels, including the identity of panelists, date of panel meetings, applications considered, notes and evaluations, as well as travel reimbursement, evaluation and other instructions that NEH sends to the panels to facilitate their review.

AUTHORITY FOR MAINTENANCE OF THE SYSTEM:

National Foundation on the Arts and the Humanities Act of 1965, as amended (20 U.S.C. 951, et seq.).

ROUTINE USES OF RECORDS MAINTAINED IN THE SYSTEM, INCLUDING CATEGORIES OF USERS AND PURPOSES OF SUCH USES:

Routine Use(s):

NEH program and grant administration staff use eGMS to evaluate applications to NEH for federal financial assistance, manage active grants and cooperative agreement awards, and communicate with grantees. NEH's financial management system draws upon contact and other information within eGMS to process the disbursement of grant funds to grantees as well as the payment of honoraria and travel expense to panelists.

NEH application review panelists have limited access to eGMS. They may only access eGMS to review grant applications assigned to the panels on which they have been asked to serve, as well as review panel instructions uploaded to eGMS. NEH application review panelists use their limited access to review grant applications, as well as prepare and submit grant evaluations.

NEH publicly discloses on its Web site information pertaining to funded projects, including the grantee and/or project director's name and institutional affiliation, dollar amount of the grant, application identification number, title and summary of the project, field of study under which the project falls, and NEH program and division responsible for administering the grant. In addition, NEH often discloses the identity of successful grant applicants via press release.

NEH also uses eGMS for statistical research, congressional oversight and trend analysis.

In addition to the above uses and disclosures, as well as the disclosures generally permitted under 5 U.S.C. 552a(b) of the Privacy Act, all or a portion of the records or information contained in this system may be disclosed outside NEH as a routine use pursuant to 5 U.S.C. 552a(b)(3) as follows:

1. To the Department of Justice (DOJ), including Offices of the U.S. Attorneys, or other federal agencies conducting litigation in or in proceedings before any court, adjudicative, or administrative body, when it is relevant or necessary to the litigation and one of the following is a party to the litigation or has an interest in the litigation:

a. NEH;

b. Any employee or former employee of NEH in his or her official capacity;

c. Any employee or former employee of NEH in his or her individual capacity when DOJ or NEH has agreed to represent the employee;

d. The U.S. Government or any agency thereof.

2. To a Member of Congress or his or her staff, or Committee of Congress, when the Member of Congress or his or her staff, or Committee, requests the information on behalf of and at the request of the individual who is the subject of the record.

3. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure. This referral shall be deemed to authorize: (1) Any and all appropriate and necessary uses of such records in a court of law or before an administrative board or hearing; and (2) such other interagency referrals as may be necessary to carry out the receiving agencies' assigned law enforcement duties.

4. To a court, magistrate, or administrative tribunal of appropriate jurisdiction in the course of presenting evidence, including disclosure to opposing counsel or witnesses in the course of civil discovery, litigation, or settlement negotiations or in connection with criminal law proceedings.

5. To federal, state, tribal, territorial, or local agencies for use in locating individuals and verifying their income sources to enforce child support orders, to establish and modify orders of support, and for enforcement of related court orders.

6. To contactors and their agents, grantees, experts, consultants, and others performing or working on a contract, service, grant, cooperative agreement, or other assignment for NEH, when necessary to accomplish an agency function related to this system of records. Individuals provided information under this routine use are subject to the same Privacy Act requirements and limitations on disclosure as are applicable to NEH personnel.

7. To any source from which additional information is requested by NEH relevant to an NEH determination concerning an individual's pay, leave, or travel expenses, to the extent necessary to identify the individual, inform the source of the purpose(s) of the request, and to identify the type of information requested.

8. To the Office of Management and Budget at any stage in the legislative coordination and clearance process in connection with private relief legislation as set forth in OMB Circular No. A-19.

9. To another federal agency, contractor, expert, or consultant of NEH when for the purpose of performing a survey, audit, or other review of NEH's procedures and operations.

10. To a contractor, grantee, or other recipient of Federal funds when the record to be released reflects serious inadequacies with the recipient's personnel, and disclosure of the record is for the purpose of permitting the recipient to effect corrective action in the government's best interests.

11. To a contractor, grantee, or other recipient of Federal funds when the recipient has incurred an indebtedness to the government through its receipt of government funds, and release of the record is for the purpose of allowing the debtor to effect a collection against a third party.

12. To the National Archives and Records Administration in records management inspections conducted under authority of 44 U.S.C. 2904 and 2906.

13. To the National Archives and Records Administration, Office of Government Information Services (OGIS), to the extent necessary to fulfill its responsibilities in 5 U.S.C. 552(b) to review administrative agency policies, procedures and compliance with the Freedom of Information Act (FOIA) and to facilitate OGIS's offering of mediation services to resolve disputes between persons making FOIA requests and administrative agencies.

14. To the Treasury, other Federal agencies, “consumer reporting agencies” (as defined in the Fair Credit Reporting Act, 15 U.S.C. 1681a(f)), or the Federal Claims Collection Act of 1966, 31 U.S.C. 3701(a)(3)), or private collection contractors for the purpose of collecting a debt owed to the Federal government as provided in regulations promulgated by NEH and published at 45 CFR 1150.

15. To appropriate agencies, entities, and persons when (1) NEH suspects or has confirmed that the security or confidentiality of information in the system of records has been compromised; (2) NEH has determined that as a result of the suspected or confirmed compromise there is a risk of harm to individuals, NEH, (including its information systems, programs, and operations), the Federal Government, or national security; and (3) the disclosure made to such agencies, entities, and persons is reasonably necessary to assist in connection with NEH's efforts to respond to the suspected or confirmed compromise and prevent, minimize, or remedy such harm.

16. To another Federal agency or Federal entity, when NEH determines that information from such system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

17. To the news media and the public, with the approval of the Senior Agency Official for Privacy, in consultation with counsel, when there exists a legitimate public interest in the disclosure of the information or when disclosure is necessary to preserve confidence in the integrity of NEH or is necessary to demonstrate the accountability of NEH's officers, employees, or individuals covered by the system, except to the extent it is determined that release of the specific information in the context of a particular case would constitute an unwarranted invasion of personal privacy.

Purpose(s):

NEH established eGMS to provide a central repository for information about its application review panelists, grant applicants, award recipients and awards.

Disclosure to Consumer Reporting Agencies:

Pursuant to 5 U.S.C. 552a(b)(12), NEH may disclose information from its financial management system to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING, AND DISPOSING OF RECORDS IN THE SYSTEM:

Storage:

NEH maintains records in this system in an electronic database and a digital file repository.

Retrievability:

NEH staff may retrieve records in this system by name, email address, eGMS personal identification number or by the identification number of any application associated with the individual in his or her capacity as an applicant, project director/grant administrator and/or peer reviewer.

Safeguards:

NEH limits access to records within this system to authorized personnel whose official duties require such access. For example, NEH limits access of its program staff to those functions necessary to processing and evaluation of applications. NEH limits the access of its grant management staff to those functions necessary to managing active grants and disbursing funds.

NEH protects records in this system through user identification, passwords, database permissions, and software controls, and it encrypts all Social Security numbers stored within eGMS.

Retention and Disposal:

NEH's Comprehensive Records Control Schedule provides disposition authority with respect to various records stored within eGMS.

NEH has authority to destroy applications for projects not selected for funding, or withdrawn from NEH, when five years old.

With respect to projects funded by NEH, NEH has authority to retain the official case file associated with such projects for twenty-five years. After the retention period, NEH may destroy case file records or select unique case files for permanent retention at the National Archives and Records Administration. Official case files consist of the application, award notification letter, notices of agency action, grantee performance reports, reviewer and panelist comments and summaries, staff comments and recommendations, written communications between NEH and grantees and other background materials received from the grantee.

With respect to reference files on peer review panels and panelists, such as meeting minutes and evaluative material for unfunded applications, lists of panelists and applications to be reviewed, and correspondence between NEH and panelists, NEH has authority to destroy such records when three years old.

NEH otherwise maintains records in eGMS on an indefinite basis for reference purposes.

SYSTEMS MANAGER(S) AND ADDRESS:

Director of the Office of Information Resource Management, National Endowment for the Humanities, 400 Seventh Street SW., Washington, DC 20506.

NOTIFICATION PROCEDURE:

See 45 CFR 1115.3.

RECORD ACCESS PROCEDURE:

See 45 CFR 1115.4.

CONTESTING RECORD PROCEDURE:

See 45 CFR 1115.5.

RECORD SOURCE CATEGORIES:

NEH obtains records in this system from individuals covered by the system, as well as from NEH program officers, application review panelists, grant management personnel and accounting personnel.

EXEMPTIONS CLAIMED FOR THE SYSTEM:

Per 5 U.S.C. 552a(k)(5) and 45 CFR 1115.7, NEH has exempted from the Privacy Act's access and amendment provision (5 U.S.C. 552a(d)) any material that would disclose the identity of references for grant applications, including the identity of application review panelists selected to review a particular application.

NEH-2

SYSTEM NAME:

Financial Management System.

SYSTEM CLASSIFICATION:

Unclassified.

SYSTEM LOCATION:

Authorized NEH staff may access NEH's financial management system electronically via an online web portal. The system is hosted by Oracle at its Managed Cloud Services' (MCS) facility in Austin, Texas. NEH stores certain supporting documents in hard-copy files within its Accounting Office, Office of Management and Budget and Administrative Services Office.

CATEGORIES OF INDIVIDUALS COVERED BY THE SYSTEM:

Individual grant recipients (e.g., fellows and independent scholars), individuals who have served as application review panelists, NEH employees and contractors, individual vendors and sole proprietors, individuals who donate funds to NEH, and other individuals involved in financial transactions with NEH.

CATEGORIES OF RECORDS IN THE SYSTEM:

Names, home and/or work addresses, employee supplier numbers, Social Security numbers, bank name and banking account and routing numbers for electronic fund transfer payments, and information regarding transactions between NEH and the covered individual, including dates, amounts paid, purpose of the transaction, and payee type (e.g., grantee, vendor, application review panelist).

In addition to the above records, NEH's financial management system may contain requisitions, payment request forms, invoices, receipts, credit card statements, travel vouchers, expense reimbursement request forms, contracts, automated clearing house (“ACH”) enrollment forms, wire transfer instructions, voided checks, fellowship acceptance forms, tax forms, demand letters, quotes, Internal Revenue Service confirmations of an individual payee's tax identification number, payment restriction notices, email and other communications between or about payments to or from covered individuals, and other documents as needed to substantiate the transaction.

AUTHORITY FOR MAINTENANCE OF THE SYSTEM:

National Foundation on the Arts and the Humanities Act of 1965, as amended (20 U.S.C. 951, et seq.).

ROUTINE USES OF RECORDS MAINTAINED IN THE SYSTEM, INCLUDING CATEGORIES OF USERS AND PURPOSES OF SUCH USES:

Routine Use(s):

NEH's financial management system supports agency-wide financial management by providing a standardized, automated capability for performing administrative control of funds, general accounting, billing and collecting, payments, management reporting, and regulatory reporting.

NEH specifically uses the financial management system to manage and disburse awards to grant recipients, pay honoraria to and reimburse travel expenses incurred by NEH application review panelists, reimburse travel and other work-related expenses incurred by NEH employees, pay vendors and other contractors who provide goods to or perform services on behalf of the agency, accept cash donations, and generate financial reports.

NEH staff from its Office of Accounting, Office of Planning and Budget, and Office of Information Resource Management have access to the financial management system for the reasons described above. Authorized members of NEH's Administrative Services Office may also access the financial management system to process requisition requests for payment to vendors and employees. In addition, staff from Oracle Corporation may access the financial management system, upon the request of NEH's Director of Accounting, to provide technical assistance as needed.

With respect to payments made to individuals covered by the system, the financial management system interacts with and automatically draws contact information (name, address, and Social Security number) from NEH's electronic grants management system. (See NEH-1.)

NEH also uses its financial management system for statistical research, congressional oversight and trend analysis

In addition to the above uses and disclosures, as well as the disclosures generally permitted under 5 U.S.C. 552a(b) of the Privacy Act, all or a portion of the records or information contained in this system may be disclosed outside NEH as a routine use pursuant to 5 U.S.C. 552a(b)(3) as follows:

1. To the Department of Justice (DOJ), including Offices of the U.S. Attorneys, or other federal agencies conducting litigation in or in proceedings before any court, adjudicative, or administrative body, when it is relevant or necessary to the litigation and one of the following is a party to the litigation or has an interest in the litigation:

a. NEH;

b. Any employee or former employee of NEH in his or her official capacity;

c. Any employee or former employee of NEH in his or her individual capacity when DOJ or NEH has agreed to represent the employee;

d. The U.S. Government or any agency thereof.

2. To a Member of Congress or his or her staff, or Committee of Congress, when the Member of Congress or his or her staff, or Committee, requests the information on behalf of and at the request of the individual who is the subject of the record.

3. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure. This referral shall be deemed to authorize: (1) Any and all appropriate and necessary uses of such records in a court of law or before an administrative board or hearing; and (2) such other interagency referrals as may be necessary to carry out the receiving agencies' assigned law enforcement duties.

4. To a court, magistrate, or administrative tribunal of appropriate jurisdiction in the course of presenting evidence, including disclosure to opposing counsel or witnesses in the course of civil discovery, litigation, or settlement negotiations or in connection with criminal law proceedings.

5. To federal, state, tribal, territorial, or local agencies for use in locating individuals and verifying their income sources to enforce child support orders, to establish and modify orders of support, and for enforcement of related court orders.

6. To contactors and their agents, grantees, experts, consultants, and others performing or working on a contract, service, grant, cooperative agreement, or other assignment for NEH, when necessary to accomplish an agency function related to this system of records. Individuals provided information under this routine use are subject to the same Privacy Act requirements and limitations on disclosure as are applicable to NEH personnel.

7. To any source from which additional information is requested by NEH relevant to an NEH determination concerning an individual's pay, leave, or travel expenses, to the extent necessary to identify the individual, inform the source of the purpose(s) of the request, and to identify the type of information requested.

8. To the Office of Management and Budget at any stage in the legislative coordination and clearance process in connection with private relief legislation as set forth in OMB Circular No. A-19.

9. To another federal agency, contractor, expert, or consultant of NEH when for the purpose of performing a survey, audit, or other review of NEH's procedures and operations.

10. To a contractor, grantee, or other recipient of Federal funds when the record to be released reflects serious inadequacies with the recipient's personnel, and disclosure of the record is for the purpose of permitting the recipient to effect corrective action in the government's best interests.

11. To a contractor, grantee, or other recipient of Federal funds when the recipient has incurred an indebtedness to the government through its receipt of government funds, and release of the record is for the purpose of allowing the debtor to effect a collection against a third party.

12. To the National Archives and Records Administration in records management inspections conducted under authority of 44 U.S.C. 2904 and 2906.

13. To the National Archives and Records Administration, Office of Government Information Services (OGIS), to the extent necessary to fulfill its responsibilities in 5 U.S.C. 552(b) to review administrative agency policies, procedures and compliance with the Freedom of Information Act (FOIA) and to facilitate OGIS's offering of mediation services to resolve disputes between persons making FOIA requests and administrative agencies.

14. To the Treasury, other Federal agencies, “consumer reporting agencies” (as defined in the Fair Credit Reporting Act, 15 U.S.C. 1681a(f)), or the Federal Claims Collection Act of 1966, 31 U.S.C. 3701(a)(3)), or private collection contractors for the purpose of collecting a debt owed to the Federal government as provided in the regulations promulgated by NEH and published at 45 CFR 1150.

15. To appropriate agencies, entities, and persons when (1) NEH suspects or has confirmed that the security or confidentiality of information in the system of records has been compromised; (2) NEH has determined that as a result of the suspected or confirmed compromise there is a risk of harm to individuals, NEH, (including its information systems, programs, and operations), the Federal Government, or national security; and (3) the disclosure made to such agencies, entities, and persons is reasonably necessary to assist in connection with NEH's efforts to respond to the suspected or confirmed compromise and prevent, minimize, or remedy such harm.

16. To another Federal agency or Federal entity, when NEH determines that information from such system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

17. To the news media and the public, with the approval of the Senior Agency Official for Privacy, in consultation with counsel, when there exists a legitimate public interest in the disclosure of the information or when disclosure is necessary to preserve confidence in the integrity of NEH or is necessary to demonstrate the accountability of NEH's officers, employees, or individuals covered by the system, except to the extent it is determined that release of the specific information in the context of a particular case would constitute an unwarranted invasion of personal privacy.

Purpose(s):

NEH established its financial management system to facilitate core accounting functions, including: (i) Supporting and documenting expenses incurred in the performance of official agency duties, (ii) tendering payment to grantees, vendors and contractors; (iii) accounting for goods and services rendered; (iv) accounting for funds paid and received; and (v) processing travel authorizations and claims.

Disclosure to Consumer Reporting Agencies:

Pursuant to 5 U.S.C. 552a(b)(12), NEH may disclose information from its financial management system to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING, AND DISPOSING OF RECORDS IN THE SYSTEM:

Storage:

NEH maintains records in this system in an electronic database. NEH maintains supporting documentation in paper format in file cabinets and stores retired paper records at Washington Federal Records Center.

Retrievability:

NEH staff may retrieve electronic records by name, Social Security number, bank account number or an electronic identification number generated automatically by the financial management system and associated with each individual for which the system maintains a record. NEH may retrieve some supporting hard-copy documents by name.

Safeguards:

NEH limits access to records within its financial management system to authorized personnel whose official duties require such access. NEH protects electronic records through user identification, passwords, database permissions, and software controls. The financial management system's underlying software application—Oracle Federal Financials—is compliant with the Federal Risk and Authorization Management Program. NEH staff employs Https protocol when accessing this application.

NEH maintains paper records in locked file cabinets or locked file rooms accessible to authorized personnel only.

Retention and Disposal:

NEH maintains records in this system in accordance with the General Records Schedule (GRS), including GRS 1.1, which covers financial management records. Retention periods may vary according to the subject matter and NEH needs. For example, GRS 1.1 authorizes NEH to destroy certain financial transaction records related to its procurement of goods and services six years after final payment or cancellation, but also authorizes longer retention if NEH requires such records for a business use. By contrast, NEH may destroy contracts, requisition requests, and purchase orders immediately once they no longer serve a business purpose.

SYSTEMS MANAGER(S) AND ADDRESS:

Accounting Director, National Endowment for the Humanities, 400 Seventh Street SW., Washington, DC 20506.

NOTIFICATION PROCEDURE:

See 45 CFR 1115.3.

RECORD ACCESS PROCEDURE:

See 45 CFR 1115.4.

CONTESTING RECORD PROCEDURE:

See 45 CFR 1115.5.

RECORD SOURCE CATEGORIES:

NEH obtains records in this system from individuals covered by the system, as well as from NEH employees involved in NEH's fund control and financial management functions.

EXEMPTIONS CLAIMED FOR THE SYSTEM:

None.

NEH-3

SYSTEM NAME:

Requisition System.

SYSTEM CLASSIFICATION:

Unclassified.

SYSTEM LOCATION:

Authorized NEH staff may access NEH's Requisition System electronically via an online Web portal. NEH stores supporting documents in hard-copy files within its Administrative Services Office. These supporting documents are also part of NEH's financial management system.

CATEGORIES OF INDIVIDUALS COVERED BY THE SYSTEM:

Individuals requiring or requesting payment from NEH for goods and services rendered to the agency, including NEH employees and contractors, application review panelists, individual vendors and sole proprietors.

CATEGORIES OF RECORDS IN THE SYSTEM:

Names, home and/or work addresses, Social Security numbers, email addresses, home and/or work phone numbers, and information regarding transactions between NEH and the covered individual, including date of the payment request, amount requested, purpose of the transaction, NEH division or office responsible for the request, and description of the request.

In addition to the above records, NEH's requisition system may contain payment request forms, invoices, receipts, credit card statements, travel vouchers, expense reimbursement request forms, contracts, email and other communications between or about payments to or from covered individuals, and other documents as needed to substantiate the requisition.

AUTHORITY FOR MAINTENANCE OF THE SYSTEM:

National Foundation on the Arts and the Humanities Act of 1965, as amended (20 U.S.C. 951, et seq.).

ROUTINE USES OF RECORDS MAINTAINED IN THE SYSTEM, INCLUDING CATEGORIES OF USERS AND PURPOSES OF SUCH USES:

Routine Use(s):

NEH uses its requisition system to process requests from or on behalf of employees, individual contractors, individual vendors, and application review panelists for payment from the agency, including for travel and training expenses, honoraria, and goods and services provided to NEH, but not including employee payroll.

In addition to the above uses and disclosures, as well as the disclosures generally permitted under 5 U.S.C. 552a(b) of the Privacy Act, all or a portion of the records or information contained in this system may be disclosed outside NEH as a routine use pursuant to 5 U.S.C. 552a(b)(3) as follows:

1. To the Department of Justice (DOJ), including Offices of the U.S. Attorneys, or other federal agencies conducting litigation in or in proceedings before any court, adjudicative, or administrative body, when it is relevant or necessary to the litigation and one of the following is a party to the litigation or has an interest in the litigation:

a. NEH;

b. Any employee or former employee of NEH in his or her official capacity;

c. Any employee or former employee of NEH in his or her individual capacity when DOJ or NEH has agreed to represent the employee;

d. The U.S. Government or any agency thereof.

2. To a Member of Congress or his or her staff, or Committee of Congress, when the Member of Congress or his or her staff, or Committee, requests the information on behalf of and at the request of the individual who is the subject of the record.

3. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure. This referral shall be deemed to authorize: (1) Any and all appropriate and necessary uses of such records in a court of law or before an administrative board or hearing; and (2) such other interagency referrals as may be necessary to carry out the receiving agencies' assigned law enforcement duties.

4. To a court, magistrate, or administrative tribunal of appropriate jurisdiction in the course of presenting evidence, including disclosure to opposing counsel or witnesses in the course of civil discovery, litigation, or settlement negotiations or in connection with criminal law proceedings.

5. To federal, state, tribal, territorial, or local agencies for use in locating individuals and verifying their income sources to enforce child support orders, to establish and modify orders of support, and for enforcement of related court orders.

6. To contactors and their agents, grantees, experts, consultants, and others performing or working on a contract, service, grant, cooperative agreement, or other assignment for NEH, when necessary to accomplish an agency function related to this system of records. Individuals provided information under this routine use are subject to the same Privacy Act requirements and limitations on disclosure as are applicable to NEH personnel.

7. To any source from which additional information is requested by NEH relevant to an NEH determination concerning an individual's pay, leave, or travel expenses, to the extent necessary to identify the individual, inform the source of the purpose(s) of the request, and to identify the type of information requested.

8. To the Office of Management and Budget at any stage in the legislative coordination and clearance process in connection with private relief legislation as set forth in OMB Circular No. A-19.

9. To another federal agency, contractor, expert, or consultant of NEH when for the purpose of performing a survey, audit, or other review of NEH's procedures and operations.

10. To a contractor, grantee, or other recipient of Federal funds when the record to be released reflects serious inadequacies with the recipient's personnel, and disclosure of the record is for the purpose of permitting the recipient to effect corrective action in the government's best interests.

11. To a contractor, grantee, or other recipient of Federal funds when the recipient has incurred an indebtedness to the government through its receipt of government funds, and release of the record is for the purpose of allowing the debtor to effect a collection against a third party.

12. To the National Archives and Records Administration in records management inspections conducted under authority of 44 U.S.C. Sec. 2904 and 2906.

13. To the National Archives and Records Administration, Office of Government Information Services (OGIS), to the extent necessary to fulfill its responsibilities in 5 U.S.C. 552(b) to review administrative agency policies, procedures and compliance with the Freedom of Information Act (FOIA) and to facilitate OGIS's offering of mediation services to resolve disputes between persons making FOIA requests and administrative agencies.

14. To the Treasury, other Federal agencies, “consumer reporting agencies” (as defined in the Fair Credit Reporting Act, 15 U.S.C. 1681a(f)) or the Federal Claims Collection Act of 1966, 31 U.S.C. 3701(a)(3)), or private collection contractors for the purpose of collecting a debt owed to the Federal government as provided in the regulations promulgated by NEH and published at 45 CFR 1150.

15. To appropriate agencies, entities, and persons when (1) NEH suspects or has confirmed that the security or confidentiality of information in the system of records has been compromised; (2) NEH has determined that as a result of the suspected or confirmed compromise there is a risk of harm to individuals, NEH, (including its information systems, programs, and operations), the Federal Government, or national security; and (3) the disclosure made to such agencies, entities, and persons is reasonably necessary to assist in connection with NEH's efforts to respond to the suspected or confirmed compromise and prevent, minimize, or remedy such harm.

16. To another Federal agency or Federal entity, when NEH determines that information from such system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

17. To the news media and the public, with the approval of the Senior Agency Official for Privacy, in consultation with counsel, when there exists a legitimate public interest in the disclosure of the information or when disclosure is necessary to preserve confidence in the integrity of NEH or is necessary to demonstrate the accountability of NEH's officers, employees, or individuals covered by the system, except to the extent it is determined that release of the specific information in the context of a particular case would constitute an unwarranted invasion of personal privacy.

Purpose(s):

NEH established its requisition system to process and track requests for payment to personnel and third-parties providing goods and services to the agency.

Disclosure to Consumer Reporting Agencies:

Pursuant to 5 U.S.C. 552a(b)(12), NEH may disclose information from its requisition system to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING, AND DISPOSING OF RECORDS IN THE SYSTEM:

Storage:

NEH maintains records in this system in an electronic database. NEH maintains supporting documentation in paper format in file cabinets and stores retired paper records at Washington Federal Records Center.

Retrievability:

NEH staff may retrieve electronic and some supporting hard-copy documents by name.

Safeguards:

NEH limits access to records within its electronic financial management system to authorized personnel whose official duties require such access. Certain authorized staff members from NEH's Administrative Services Office and Office of Information Resource Management have access to the entire requisition system, while staff members from other divisions and offices have limited system access for the purpose of submitting requests and viewing and tracking requests submitted by their assigned offices. NEH protects electronic records through user identification, passwords, database permissions, and software controls.

NEH maintains paper records in locked file cabinets or locked file rooms accessible to authorized personnel only.

Retention and Disposal:

NEH maintains records in this system in accordance with General Records Schedule (GRS) 1.1, which covers financial management records. Among other things, GRS 1.1 authorizes NEH to destroy requisitions immediately once they no longer serve a business purpose.

SYSTEMS MANAGER(S) AND ADDRESS:

Director, Office of Administrative Services, National Endowment for the Humanities, 400 Seventh Street SW., Washington, DC 20506.

Director of the Office of Information Resource Management, National Endowment for the Humanities, 400 Seventh Street SW., Washington, DC 20506.

NOTIFICATION PROCEDURE:

See 45 CFR 1115.3.

RECORD ACCESS PROCEDURE:

See 45 CFR 1115.4.

CONTESTING RECORD PROCEDURE:

See 45 CFR 1115.5.

RECORD SOURCE CATEGORIES:

NEH obtains records in this system from individuals covered by the system, as well as from NEH employees involved in agency operations related to the requisition.

EXEMPTIONS CLAIMED FOR THE SYSTEM:

None.

NEH-4

SYSTEM NAME:

Employee Payroll and Leave and Attendance Records.

SYSTEM LOCATION:

National Endowment for the Humanities, Department of Human Resources, 400 Seventh Street SW., Washington, DC 20506.

Pursuant to an Interagency Agreement between NEH and the National Finance Center (“NFC”), a component organization of the United States Department of Agriculture's Office of the Chief Financial Officer, NFC provides NEH with the following services: Payroll processing, payroll account processing, salary payment processing, receipt and processing of time and attendance data, and other functions necessary to perform these services. NFC provides these services using the Department of Agriculture's payroll systems, which are covered under Department of Agriculture System of Record Notice OP-1.

CATEGORIES OF INDIVIDUALS COVERED BY THE SYSTEM:

Current and former NEH employees.

CATEGORIES OF RECORDS IN THE SYSTEM:

Employee name, address, phone number, Social Security number, and organizational code, pay rate and grade, salary, retirement, and location data, length of service, pay, leave, time and attendance, allowances, and cost distribution records, deductions for Medicare/FICA, savings bonds, Federal Employee Group Life Insurance (FEGLI), Long Term Care Insurance, union dues, Federal, State, and city tax withholdings, allotments, designated charities, health benefits, Thrift Savings Plan contributions, Flexible Spending Account, awards, shift schedules, pay differentials, IRS tax lien data, commercial garnishments, child support and/or alimony wage assignments; information on debts owed to the government as a result of overpayment, refunds owed, or a debt referred for collection on a transferred employee.

AUTHORITY FOR MAINTENANCE OF THE SYSTEM:

National Foundation on the Arts and the Humanities Act of 1965, as amended (20 U.S.C. 951, et seq.).

ROUTINE USES OF RECORDS MAINTAINED IN THE SYSTEM, INCLUDING CATEGORIES OF USERS AND PURPOSES OF SUCH USES:

Routine Use(s):

NEH may disclose all or a portion of the records contained within this system as follows:

1. To provide information to unions recognized as exclusive bargaining representatives under the Civil Service Reform Act of 1978, 5 U.S.C. Sec. 7111 and 7114, including for the purpose of providing information as to the identity of NEH employees contributing union dues each pay period and the amount of dues withheld from each contributor.

2. To the other federal agencies who provide payroll personnel processing services under a cross-servicing agreement for purposes relating to the conversion of NEH employee payroll and personnel processing services, the issuance of paychecks to employees and distribution of wages, and the distribution of allotments and deductions to financial and other institutions, including through electronic funds transfer.

3. To provide wage and separation information to another federal agency as required by law for payroll purposes.

4. To the Office of Personnel Management, the Merit System Protection Board, Federal Labor Relations Authority, Federal Thrift Retirement Investment Board or the Equal Employment Opportunity Commission when requested in the performance of their authorized duties.

5. To the Department of Labor in connection with a claim filed by an employee for compensation due to a job-connected injury or illness.

6. To the Department of the Treasury to issue checks.

7. To appropriate Federal and State agencies to provide required reports including data on unemployment insurance.

8. To Federal Employee's Group Life Insurance or Health Benefits carriers in connection with survivor annuity or health benefits claims or records reconciliations.

9. To the Internal Revenue Service and State and local tax authorities for which an employee is or was subject to tax regardless of whether tax is or was withheld in accordance with Treasury Fiscal Requirements, as required.

10. To any source from which additional information is requested by NEH relevant to an NEH determination concerning an individual's pay, leave, or travel expenses, to the extent necessary to identify the individual, inform the source of the purpose(s) of the request, and to identify the type of information requested.

11. To the Social Security Administration and the Department of the Treasury to disclose pay data on an annual basis.

12. To a federal agency or in response to a congressional inquiry when additional or statistical information is requested relevant to the NEH Transportation Fringe Benefit Program.

13. To the Department of Health and Human Services for the purpose of providing information on new hires and quarterly wages as required under the Personal Responsibility and Work Opportunity Reconciliation Act of 1996.

14. To the Department of Justice (DOJ), including Offices of the U.S. Attorneys, or other federal agencies conducting litigation in or in proceedings before any court, adjudicative, or administrative body, when it is relevant or necessary to the litigation and one of the following is a party to the litigation or has an interest in the litigation:

(a) NEH;

(b) Any employee or former employee of NEH in his or her official capacity;

(c) Any employee or former employee of NEH in his or her individual capacity when DOJ or NEH has agreed to represent the employee;

(d) The U.S. Government or any agency thereof.

15. To a Member of Congress or his or her staff, or Committee of Congress, when the Member of Congress or his or her staff, or Committee, requests the information on behalf of and at the request of the individual who is the subject of the record.

16. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure. This referral shall be deemed to authorize: (1) Any and all appropriate and necessary uses of such records in a court of law or before an administrative board or hearing; and (2) such other interagency referrals as may be necessary to carry out the receiving agencies' assigned law enforcement duties.

17. To a court, magistrate, or administrative tribunal of appropriate jurisdiction in the course of presenting evidence, including disclosure to opposing counsel or witnesses in the course of civil discovery, litigation, or settlement negotiations or in connection with criminal law proceedings.

18. To federal, state, tribal, territorial, or local agencies for use in locating individuals and verifying their income sources to enforce child support orders, to establish and modify orders of support, and for enforcement of related court orders.

19. To contactors and their agents, grantees, experts, consultants, and others performing or working on a contract, service, grant, cooperative agreement, or other assignment for NEH, when necessary to accomplish an agency function related to this system of records. Individuals provided information under this routine use are subject to the same Privacy Act requirements and limitations on disclosure as are applicable to NEH personnel.

20. To any source from which additional information is requested by NEH relevant to an NEH determination concerning an individual's pay, leave, or travel expenses, to the extent necessary to identify the individual, inform the source of the purpose(s) of the request, and to identify the type of information requested.

21. To the Office of Management and Budget at any stage in the legislative coordination and clearance process in connection with private relief legislation as set forth in OMB Circular No. A-19.

22. To another federal agency, contractor, expert, or consultant of NEH when for the purpose of performing a survey, audit, or other review of NEH's procedures and operations.

23. To a contractor, grantee, or other recipient of Federal funds when the record to be released reflects serious inadequacies with the recipient's personnel, and disclosure of the record is for the purpose of permitting the recipient to effect corrective action in the government's best interests.

24. To a contractor, grantee, or other recipient of Federal funds when the recipient has incurred an indebtedness to the government through its receipt of government funds, and release of the record is for the purpose of allowing the debtor to effect a collection against a third party.

25. To the National Archives and Records Administration in records management inspections conducted under authority of 44 U.S.C. Sec. 2904 and 2906.

26. To the National Archives and Records Administration, Office of Government Information Services (OGIS), to the extent necessary to fulfill its responsibilities in 5 U.S.C. 552(b) to review administrative agency policies, procedures and compliance with the Freedom of Information Act (FOIA) and to facilitate OGIS's offering of mediation services to resolve disputes between persons making FOIA requests and administrative agencies.

27. To the Department of the Treasury, other Federal agencies, “consumer reporting agencies” (as defined in the Fair Credit Reporting Act, 15 U.S.C. 1681a(f)) or the Federal Claims Collection Act of 1966, 31 U.S.C. 3701(a)(3)), or private collection contractors for the purpose of collecting a debt owed to the Federal government as provided in the regulations promulgated by NEH and published at 45 CFR 1150.

28. To appropriate agencies, entities, and persons when (1) NEH suspects or has confirmed that the security or confidentiality of information in the system of records has been compromised; (2) NEH has determined that as a result of the suspected or confirmed compromise there is a risk of harm to individuals, NEH, (including its information systems, programs, and operations), the Federal Government, or national security; and (3) the disclosure made to such agencies, entities, and persons is reasonably necessary to assist in connection with NEH's efforts to respond to the suspected or confirmed compromise and prevent, minimize, or remedy such harm.

29. To another Federal agency or Federal entity, when NEH determines that information from such system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

30. To the news media and the public, with the approval of the Senior Agency Official for Privacy, in consultation with counsel, when there exists a legitimate public interest in the disclosure of the information or when disclosure is necessary to preserve confidence in the integrity of NEH or is necessary to demonstrate the accountability of NEH's officers, employees, or individuals covered by the system, except to the extent it is determined that release of the specific information in the context of a particular case would constitute an unwarranted invasion of personal privacy.

Purpose(s):

NEH established this system of records to ensure proper payment of salary and benefits to NEH personnel, and to track time worked, leave, or other absences for reporting and compliance purposes.

Disclosure to Consumer Reporting Agencies:

Pursuant to 5 U.S.C. 552a(b)(12), NEH may disclose information from this system to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING, AND DISPOSING OF RECORDS IN THE SYSTEM:

Storage:

NEH maintains paper records in filing cabinets.

Retrievability:

NEH may retrieve records in this system by an individual's name.

Safeguards:

NEH limits access to records within this system to authorized personnel whose official duties require such access: namely, Office of Human Resources personnel and senior staff. NEH keeps paper records in this system in locked file cabinets.

Retention and Disposal:

NEH maintains records in this system in accordance with General Records Schedule (GRS) 2, which covers Payrolling and Pay Administration Records. For example, GRS 2, Item 1(b) requires that NEH transfer an employee's payroll records to the National Personnel Records Center, which NEH does 90 days after the employee separates from NEH, and requires that the National Personnel Records Center destroy these records when 56 years old.

SYSTEMS MANAGER(S) AND ADDRESS:

Director of the Office of Human Resources, National Endowment for the Humanities, 400 Seventh Street SW., Washington, DC 20506.

NOTIFICATION PROCEDURE:

See 45 CFR 1115.3.

RECORD ACCESS PROCEDURE:

See 45 CFR 1115.4.

CONTESTING RECORD PROCEDURE:

See 45 CFR 1115.5.

RECORD SOURCE CATEGORIES:

NEH obtains records in this system from individuals covered by the system, as well as from NEH employees involved in the administration of personnel and payroll processes.

EXEMPTIONS CLAIMED FOR THE SYSTEM:

None.

NEH-5

SYSTEM NAME:

Office of the Inspector General Investigative Files.

SYSTEM CLASSIFICATION:

Unclassified.

SYSTEM LOCATION:

Office of the Inspector General (OIG), 400 Seventh Street SW., Washington, DC 20506.

CATEGORIES OF INDIVIDUALS COVERED BY THE SYSTEM:

Individuals who are or have been the subject of investigations by the OIG. These individuals include (1) former and present NEH employees, (2) former and present individual grant recipients (e.g., fellows and public scholars), (3) grant administrators, project directors and employees of organizational grant recipients; (4) former and present contractors and vendors, and their employees, (5) former and present application review panelists; and (6) other individuals that had, have, or are seeking to obtain business or other relationships with NEH.

CATEGORIES OF RECORDS IN THE SYSTEM:

Investigative reports and related materials pertaining to allegations of fraud, waste, abuse, mismanagement, danger to public health or safety, violations of law, misconduct and irregularities by individuals covered by the system. These records include: (1) Correspondence relevant to the investigation; (2) working papers of OIG staff; (3) OIG investigative notes, internal memoranda, and other documents and records relating to the investigation; (4) subpoenas issued by the Inspector General and documents submitted to OIG in response to subpoenas; (5) criminal, civil, or administrative referrals; (6) affidavits, statements, documentation and other information provided by subjects of the investigation, individuals with whom the subjects are associated, complainants, or witnesses; (7) information provided by Federal, State, or local governmental investigative or law enforcement agencies, or other organizations; and (8) opening reports, progress reports, and closing reports from OIG, with recommendations for corrective action.

AUTHORITY FOR MAINTENANCE OF THE SYSTEM:

Inspector General Act of 1978, 5 U.S.C. app. 1, sections 1-13; National Foundation on the Arts and the Humanities Act of 1965, as amended (20 U.S.C. 951, et seq.).

ROUTINE USES OF RECORDS MAINTAINED IN THE SYSTEM, INCLUDING CATEGORIES OF USERS AND PURPOSES OF SUCH USES:

Routine Use(s):

OIG staff uses records in this system to conduct and report investigations of fraud, waste, abuse of authority, research misconduct (fabrication, falsification, plagiarism), mismanagement and misconduct in or pertaining to NEH programs and activities, as well as the programs and activities of those receiving financial assistance from NEH, and by those who do business with NEH.

OIG may disclose data in this system to any source, either private or governmental, to the extent necessary to secure from such source information relevant to, and sought in furtherance of, a legitimate OIG investigation. OIG may also disclose data in this system to NEH's legal representatives, including the United States Department of Justice and other outside legal counsel, when OIG or NEH is a party in actual or anticipated litigation or has an interest in such litigation.

In addition to the above uses and disclosures, as well as the disclosures generally permitted under 5 U.S.C. 552a(b) of the Privacy Act, all or a portion of the records or information contained in this system may be disclosed outside NEH as a routine use pursuant to 5 U.S.C. 552a(b)(3) as follows:

1. To the Department of Justice (DOJ), including Offices of the U.S. Attorneys, other federal agencies or outside legal counsel conducting litigation in or in proceedings before any court, adjudicative, or administrative body, when it is relevant or necessary to the litigation and one of the following is a party to the litigation or has an interest in the litigation:

a. NEH;

b. Any employee or former employee of NEH in his or her official capacity;

c. Any employee or former employee of NEH in his or her individual capacity when DOJ or NEH has agreed to represent the employee;

d. The U.S. Government or any agency thereof.

2. To a Member of Congress or his or her staff, or Committee of Congress, when the Member of Congress or his or her staff, or Committee, requests the information on behalf of and at the request of the individual who is the subject of the record.

3. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure. This referral shall be deemed to authorize: (1) Any and all appropriate and necessary uses of such records in a court of law or before an administrative board or hearing; and (2) such other interagency referrals as may be necessary to carry out the receiving agencies' assigned law enforcement duties.

4. To a court, magistrate, or administrative tribunal of appropriate jurisdiction in the course of presenting evidence, including disclosure to opposing counsel or witnesses in the course of civil discovery, litigation, or settlement negotiations or in connection with criminal law proceedings.

5. To federal, state, tribal, territorial, or local agencies for use in locating individuals and verifying their income sources to enforce child support orders, to establish and modify orders of support, and for enforcement of related court orders.

6. To contactors and their agents, grantees, experts, consultants, and others performing or working on a contract, service, grant, cooperative agreement, or other assignment for NEH, when necessary to accomplish an agency function related to this system of records. Individuals provided information under this routine use are subject to the same Privacy Act requirements and limitations on disclosure as are applicable to NEH personnel.

7. To another federal agency, contractor, expert, or consultant of NEH when for the purpose of performing a survey, audit, or other review of NEH's procedures and operations.

8. To a contractor, grantee, or other recipient of Federal funds when the record to be released reflects serious inadequacies with the recipient's personnel, and disclosure of the record is for the purpose of permitting the recipient to effect corrective action in the government's best interests.

9. To a contractor, grantee, or other recipient of Federal funds when the recipient has incurred an indebtedness to the government through its receipt of government funds, and release of the record is for the purpose of allowing the debtor to effect a collection against a third party.

10. To the National Archives and Records Administration in records management inspections conducted under authority of 44 U.S.C. Sec. 2904 and 2906.

11. To the National Archives and Records Administration, Office of Government Information Services (OGIS), to the extent necessary to fulfill its responsibilities in 5 U.S.C. 552(b) to review administrative agency policies, procedures and compliance with the Freedom of Information Act (FOIA) and to facilitate OGIS's offering of mediation services to resolve disputes between persons making FOIA requests and administrative agencies.

12. To the Treasury, other Federal agencies, “consumer reporting agencies” (as defined in the Fair Credit Reporting Act, 15 U.S.C. 1681a(f)), or the Federal Claims Collection Act of 1966, 31 U.S.C. 3701(a)(3)), or private collection contractors for the purpose of collecting a debt owed to the Federal government as provided in the regulations promulgated by NEH and published at 45 CFR 1150.

13. To appropriate agencies, entities, and persons when (1) NEH suspects or has confirmed that the security or confidentiality of information in the system of records has been compromised; (2) NEH has determined that as a result of the suspected or confirmed compromise there is a risk of harm to individuals, NEH, (including its information systems, programs, and operations), the Federal Government, or national security; and (3) the disclosure made to such agencies, entities, and persons is reasonably necessary to assist in connection with NEH's efforts to respond to the suspected or confirmed compromise and prevent, minimize, or remedy such harm.

14. To another Federal agency or Federal entity, when NEH determines that information from such system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

15. To third parties during the course of a law enforcement investigation to the extent necessary to obtain information pertinent to the investigation, provided disclosure is appropriate to the proper performance of the official duties of the officer making the disclosure.

16. To complainants and victims to the extent necessary to provide such persons with information and explanations concerning the progress or results of the investigation arising from the matters of which they complained or of which they were a victim.

17. To the news media and the public, with the approval of the Senior Agency Official for Privacy, in consultation with counsel, when there exists a legitimate public interest in the disclosure of the information or when disclosure is necessary to preserve confidence in the integrity of NEH or is necessary to demonstrate the accountability of NEH's officers, employees, or individuals covered by the system, except to the extent it is determined that release of the specific information in the context of a particular case would constitute an unwarranted invasion of personal privacy.

Purpose(s):

NEH created this system to maintain files of investigative activities carried out by OIG.

Disclosure to Consumer Reporting Agencies:

Pursuant to 5 U.S.C. 552a(b)(12), NEH may disclose information from its financial management system to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING, AND DISPOSING OF RECORDS IN THE SYSTEM:

Storage:

NEH maintains paper records in filing cabinets and retired records at the Washington Federal Records Center.

Retrievability:

OIG retrieves records within this system by the name of the individual formerly or currently under investigation.

Safeguards:

NEH limits access to records within this system to authorized personnel whose official duties require such access: Namely, OIG staff. NEH maintains records in locked file cabinets or locked file rooms accessible to authorized personnel only.

Retention and Disposal:

NEH maintains records in this system according to records disposition schedules and requirements of the National Archives and Records Administration (NARA).

SYSTEMS MANAGER(S) AND ADDRESS:

Inspector General, National Endowment for the Humanities, 400 Seventh Street SW., Washington, DC 20506.

NOTIFICATION PROCEDURE:

See 45 CFR 1115.3.

RECORD ACCESS PROCEDURE:

Many of the records contained within this system are exempt from this requirement pursuant to 5 U.S.C. 552a(j)(2) or (k)(2). NEH shall make a determination as to an exemption at the time it receives a request. Requests for access must be sent to the Office of the General Counsel in accordance with the procedures set forth in 45 CFR 1115.4.

CONTESTING RECORD PROCEDURE:

Many of the records contained within this system are exempt from this requirement pursuant to 5 U.S.C. 552a(j)(2) or (k)(2). NEH shall make a determination as to an exemption at the time it receives a request. Requests for correction must be sent to the Office of the General Counsel in accordance with the procedures set forth in 45 CFR 1115.5.

RECORD SOURCE CATEGORIES:

NEH obtains records in this system from individuals covered by the system, individuals or entities with whom such individuals are associated, complainants, witnesses, Federal, State, or local governmental investigative or law enforcement agencies, NEH staff, and from OIG employees authorized to conduct internal investigations.

EXEMPTIONS CLAIMED FOR THIS SYSTEM:

This system of records, to the extent that it consists of information compiled for law enforcement purposes, may be exempt from the Privacy Act's access and correction provisions pursuant to 5 U.S.C. 552a(j)(2) and/or (k)(2). In addition, this system of records, to the extent that it consists of investigatory material compiled for purposes of determining suitability, eligibility, or qualifications for federal financial assistance from NEH, or employment with NEH, the release of which would reveal the identity of references for such assistance or employment, is exempt from the Privacy Act's access and correction provisions pursuant to 5 U.S.C. 552a(k)(5) and 45 CFR 1115.7. Records in this system that originated in another system of records shall be governed by the exemptions claimed for this system as well as any additional exemptions claimed for the other system.

NEH-6

SYSTEM NAME:

Humanities Magazine Contact Database.

SYSTEM CLASSIFICATION:

Unclassified.

SYSTEM LOCATION:

Authorized NEH staff may access NEH's Humanities Magazine Contact Database via Microsoft Access.

CATEGORIES OF INDIVIDUALS COVERED BY THE SYSTEM:

Individuals who receive complimentary copies of Humanities Magazine, the Magazine of the National Endowment for the Humanities, including members of the National Council on the Humanities, application review panelists, donors, staff of state humanities councils, museum directors and college administrators, members of Congress and Congressional staff, members of the media, and officers and employees of other federal agencies.

CATEGORIES OF RECORDS IN THE SYSTEM:

Names, home and/or work addresses, email addresses, home and/or work phone numbers and fax numbers, a database identification number unique to the individual, institutional affiliation, and category of subscriber (e.g., National Council member, member of Congress, etc.).

AUTHORITY FOR MAINTENANCE OF THE SYSTEM:

National Foundation on the Arts and the Humanities Act of 1965, as amended (20 U.S.C. 951, et seq.).

ROUTINE USES OF RECORDS MAINTAINED IN THE SYSTEM, INCLUDING CATEGORIES OF USERS AND PURPOSES OF SUCH USES:

Routine Use(s):

NEH uses this system to store address and other contact information of those who receive complimentary copies of Humanities Magazine so it may periodically mail copies of Humanities Magazine to those individuals.

In addition to the above uses and disclosures, as well as the disclosures generally permitted under 5 U.S.C. 552a(b) of the Privacy Act, all or a portion of the records or information contained in this system may be disclosed outside NEH as a routine use pursuant to 5 U.S.C. 552a(b)(3) as follows:

1. To the Department of Justice (DOJ), including Offices of the U.S. Attorneys, or other federal agencies conducting litigation in or in proceedings before any court, adjudicative, or administrative body, when it is relevant or necessary to the litigation and one of the following is a party to the litigation or has an interest in the litigation:

a. NEH;

b. Any employee or former employee of NEH in his or her official capacity;

c. Any employee or former employee of NEH in his or her individual capacity when DOJ or NEH has agreed to represent the employee;

d. The U.S. Government or any agency thereof.

2. To a Member of Congress or his or her staff, or Committee of Congress, when the Member of Congress or his or her staff, or Committee, requests the information on behalf of and at the request of the individual who is the subject of the record.

3. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure. This referral shall be deemed to authorize: (1) Any and all appropriate and necessary uses of such records in a court of law or before an administrative board or hearing; and (2) such other interagency referrals as may be necessary to carry out the receiving agencies' assigned law enforcement duties.

4. To a court, magistrate, or administrative tribunal of appropriate jurisdiction in the course of presenting evidence, including disclosure to opposing counsel or witnesses in the course of civil discovery, litigation, or settlement negotiations or in connection with criminal law proceedings.

5. To federal, state, tribal, territorial, or local agencies for use in locating individuals and verifying their income sources to enforce child support orders, to establish and modify orders of support, and for enforcement of related court orders

6. To contactors and their agents, grantees, experts, consultants, and others performing or working on a contract, service, grant, cooperative agreement, or other assignment for NEH, when necessary to accomplish an agency function related to this system of records. Individuals provided information under this routine use are subject to the same Privacy Act requirements and limitations on disclosure as are applicable to NEH personnel.

7. To another federal agency, contractor, expert, or consultant of NEH when for the purpose of performing a survey, audit, or other review of NEH's procedures and operations.

8. To the National Archives and Records Administration in records management inspections conducted under authority of 44 U.S.C. 2904 and 2906.

9. To the National Archives and Records Administration, Office of Government Information Services (OGIS), to the extent necessary to fulfill its responsibilities in 5 U.S.C. 552(b) to review administrative agency policies, procedures and compliance with the Freedom of Information Act (FOIA) and to facilitate OGIS's offering of mediation services to resolve disputes between persons making FOIA requests and administrative agencies.

10. To appropriate agencies, entities, and persons when (1) NEH suspects or has confirmed that the security or confidentiality of information in the system of records has been compromised; (2) NEH has determined that as a result of the suspected or confirmed compromise there is a risk of harm to individuals, NEH, (including its information systems, programs, and operations), the Federal Government, or national security; and (3) the disclosure made to such agencies, entities, and persons is reasonably necessary to assist in connection with NEH's efforts to respond to the suspected or confirmed compromise and prevent, minimize, or remedy such harm.

11. To another Federal agency or Federal entity, when NEH determines that information from such system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

12. To the news media and the public, with the approval of the Senior Agency Official for Privacy, in consultation with counsel, when there exists a legitimate public interest in the disclosure of the information or when disclosure is necessary to preserve confidence in the integrity of NEH or is necessary to demonstrate the accountability of NEH's officers, employees, or individuals covered by the system, except to the extent it is determined that release of the specific information in the context of a particular case would constitute an unwarranted invasion of personal privacy.

Purpose(s):

NEH established its Humanities Magazine Contact Database to create a central database of contact information for those who receive complimentary copies of Humanities Magazine.

Disclosure to Consumer Reporting Agencies:

None.

POLICIES AND PRACTICES FOR STORING, RETRIEVING, ACCESSING, RETAINING, AND DISPOSING OF RECORDS IN THE SYSTEM:

Storage:

NEH maintains records in this system in an electronic database accessible via Microsoft Access.

Retrievability:

NEH staff may retrieve electronic records by name or database identification number.

Safeguards:

NEH limits access to records within this system of records to personnel whose official duties require such access.

Retention and Disposal:

NEH maintains records in this system indefinitely, but may remove records when NEH determines to stop providing a particular individual with a complimentary copy of Humanities Magazine or a particular individual asks to no longer receive a copy of Humanities Magazine.

SYSTEMS MANAGER(S) AND ADDRESS:

Director, Office of Administrative Services, National Endowment for the Humanities, 400 Seventh Street SW., Washington, DC 20506.

NOTIFICATION PROCEDURE:

See 45 CFR 1115.3.

RECORD ACCESS PROCEDURE:

See 45 CFR 1115.4.

CONTESTING RECORD PROCEDURE:

See 45 CFR 1115.5.

RECORD SOURCE CATEGORIES:

NEH obtains records in this system from individuals covered by the system.

EXEMPTIONS CLAIMED FOR THE SYSTEM:

None.

Dated: April 21, 2017.
Adam M. Kress,
Senior Agency Official for Privacy.

[FR Doc. 2017-08410 Filed 4-25-17; 8:45 am]

BILLING CODE 7536-01-P